DEPARTMENT OF AGRICULTURE

Forest Service

Final Record of Decision for the National Forests in North Carolina

AGENCY: Forest Service, Agriculture (USDA).

ACTION: Notice of approval of the revised Land Management Plan for the Nantahala and Pisgah National Forests.

SUMMARY: James Melonas, the Forest Supervisor for the National Forests in North Carolina, Southern Region, signed the Final Record of Decision (ROD) for the revised Nantahala and Pisgah National Forests Land Management Plan (LMP). The final ROD documents the rationale for approving the revised LMP and is consistent with the Reviewing Officer's responses to objections and instructions.

DATES: The revised LMP for the Nantahala and Pisgah National Forests will become effective 30 days after the publication of this notice of approval in the Federal Register (36 CFR 219.17(a)(1)).

ADDRESSES: To view the final ROD, Final Environmental Impact Statement (FEIS), the revised LMP, and other related documents, please visit the National Forests in North Carolina website at: www.fs.usda.gov/goto/nfsnc/nprevision. A legal notice of approval is also being published in the newspaper of record, Asheville Citizen Times. A copy of this legal notice will be posted on the National Forests in North Carolina website as listed in ADDRESSES.

FOR FURTHER INFORMATION CONTACT: Michelle Aldridge, Forest Planner, Nantahala and Pisgah National Forests, by telephone 828-257-4200, or via email at michelle.aldridge@usda.gov.

Individuals who use telecommunication devices for the deaf or hard of hearing (TDD) may call the Federal Relay Service (FRS) at 800-877-8339, 24 hours a day, every day of the year, including holidays. Written requests for information may be sent to National Forests in North Carolina, Attn: Forest Plan Revision, 160 Zillicoa Street, Ste. A; Asheville, NC 28801.

SUPPLEMENTARY INFORMATION: The Nantahala and Pisgah National Forests span six ranger districts and approximately 1.04 million acres across 18 counties in Western North Carolina. The Forests have a combined LMP. The LMP was developed pursuant to the 2012 Forest Service Planning Rule (36 CFR 219) and will replace the current LMP, which was significantly amended in 1994 following its 1987 release. The revised LMP describes desired conditions, objectives, standards, guidelines, and land suitability for project and activity decision-making and will guide all resource management activities on the Forests.

The Nantahala and Pisgah National Forests lie within one of the oldest mountain ranges in the world and are a global hotspot for biodiversity, with a rich diversity of ecosystems, unique habitats, and rare species. The Nantahala and Pisgah National Forests are among the most visited in the National Forest System with nationally recognized scenic and recreation destinations that are among the region's greatest economic assets. The Pisgah Forest is also home to the birthplace of scientific forestry in America.

The Nantahala and Pisgah National Forests initiated LMP revision in 2013. During revision, the Forests engaged with federal, state, and local governments; 18 counties; three regional councils of government; local congressional staff; scientists; numerous interest and industry groups; individuals; and three collaborative groups that serve as liaisons to broader communities of interests. The design of public and government involvement was dynamic, allowing opportunities to both inform and accept feedback on the planning process as well as specific elements of the LMP. Public participants had opportunities to engage through more than 49 traditional public meetings, as well as through virtual meetings, facilitated phone calls, social media, email, and postal mail. The Forests engaged in government-to-government consultation with 12 federally recognized tribes. The revised LMP honors and redeems the Forests' trust responsibility to tribes, recognizes tribes and tribal members as partners in stewarding the national forests, and values traditional ecological knowledge and places of tribal significance. The development of the LMP was shaped by the best available scientific information, current laws, and public and government input.

A 135-day public comment period on the draft LMP and associated Draft EIS was initiated on February 14, 2020. Comments were used to refine the preferred alternative and augment LMP. A draft ROD, LMP, and FEIS were released in January 2022, initiating a 60-day objection filing period that closed March 22, 2022. The Forest Service received 825 eligible objections. Following the objection review, the Reviewing Officer held objection resolution meetings with objectors and interested persons. Based on these meetings, the Reviewing Officer issued a written response on January 19, 2023. The instructions from the Reviewing Officer were addressed in the ROD, LMP, and FEIS.

Lead and Cooperating Agencies

The Bureau of Land Management is a cooperating agency per their legal jurisdiction over the federal mineral estate underlying the Nantahala and Pisgah National Forests and provides information and special expertise related to subsurface mineral resources.

Responsible Official

The Responsible Official for approving the revised LMP is James E. Melonas, Forest Supervisor, National Forests in North Carolina. The Responsible Official approving the list of species of conservation concern is Ken Arney, Regional Forester, Southern Region.

Dated: February 9, 2023.
Troy Heithecker,
Associate Deputy Chief, National Forest System.

[FR Doc. 2023-03353 Filed 2-16-23; 8:45 am]

BILLING CODE 3411-15-P